FEDERAL COMMUNICATIONS COMMISSION

Notice of Public Information Collection(s) Being Reviewed by the Federal Communications Commission for Extension Under Delegated Authority 5 CFR 1320 Authority, Comments Requested

October 13, 2000.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Persons wishing to comment on this information collection should submit comments on or before December 26, 2000.

ADDRESSES: Direct all comments to Les Smith, Federal Communications Commissions, Room 1-A804, 445 12th Street, S.W., Washington, DC 20554 or via the Internet to lesmith@fcc.gov.

FOR FURTHER INFORMATION CONTACT: For additional information or copies of the information collections contact Les Smith at 202-418-0217 or via the Internet at lesmith@fcc.gov.

SUPPLEMENTARY INFORMATION: OMB Control Number: 3060-0132.

Title: Supplemental Information—72-76 MHz Operational Fixed Stations.

Form Number: FCC 1068 A.

Type of Review: Extension of a currently approved collection.

Respondents: Businesses or other for-profit entities; Non-profit institutions; Individuals; and State or Local Governments.

Number of Respondents: 300.

Estimated Time Per Response: 30 minutes.

Frequency of Response: On occasion reporting requirement.

Total Annual Burden: 150 hours.

Total Respondent Costs: $4,500.

Needs and Uses: FCC Rules require applicants to agree to eliminate any harmful interference caused by the operation to TV reception on either channel 4 or 5 that might develop. This form is required by the Communications Act of 1934, as amended, International Treaties, and FCC Rules 47 CFR Part 90.257. FCC staff will use the data to determine if the information that is submitted meets the FCC Rule requirements for the assignment of frequencies in the 72-76 MHz band.

Federal Communications Commission.
Magalie Roman Salas,
Secretary.

[FR Doc. 00-27422 Filed 10-24-00; 8:45 am]

BILLING CODE 6712-01-P